DEPARTMENT OF COMMERCE

National Oceanic and Atmospheric Administration

[RTID 0648-XA479]

Magnuson-Stevens Fishery Conservation and Management Act Provisions; Atlantic Bluefish Fishery; Withdrawal of Notice of Intent To Prepare Environmental Impact Statement for Amendment 7

AGENCY: National Marine Fisheries Service (NMFS), National Oceanic and Atmospheric Administration (NOAA), Commerce.

ACTION: Notice of withdrawal.

SUMMARY: The Mid-Atlantic Fishery Management Council initiated development of Amendment 7 to the Atlantic Bluefish Fishery Management Plan in late 2017. A notice of intent to develop an environmental impact statement for this action was published in June 2018. However, following a second round of scoping meetings in February and March 2020, it has been determined that the range of proposed alternatives included in this amendment are not expected to have significant impacts on the fishery or affected environment. Therefore, NMFS is withdrawing the notice of intent and will continue development of an environmental assessment instead.

FOR FURTHER INFORMATION CONTACT: Cynthia Ferrio, Fishery Policy Analyst, (978) 281-9180.

SUPPLEMENTARY INFORMATION: In December 2017, the Council initiated a comprehensive amendment to the Bluefish Fishery Management Plan (FMP) to review and update the goals and objectives of this FMP, as well as reevaluate quota allocation and transfer provisions between sectors and states, in light of changing fishery conditions and stakeholder priorities. The Council published a notice of intent to develop an environmental impact statement for this amendment in accordance with the National Environmental Policy Act to analyze the impacts of any proposed management measures (83 FR 26267; June 6, 2018), and held a series of scoping hearings with the Atlantic States Marine Fisheries Commission's Bluefish Board in June and July of 2018. Following this round of scoping, development on the amendment was put on hold until the results of the August 2019 operational stock assessment were available that incorporated revised Marine Recreational Information Program data into its model.

The 2019 assessment determined that the bluefish stock is now overfished although overfishing is not occurring, and at its December 2019 meeting, the Council decided to add the rebuilding plan to Amendment 7. The Council must develop and implement a rebuilding plan within 2 years of notification that a stock is overfished, by the end of November 2021. Following a second round of scoping hearings in February and March 2020, the Council and NMFS have determined that the range of proposed alternatives included in this amendment are not expected to have significant impacts on the fishery or affected environment and that an environmental assessment will be developed. Therefore, this notice announces the Council's withdrawal of the Notice of Intent to Prepare an Environmental Impact Statement for Amendment 7 to the Bluefish FMP. Development of the amendment will continue with an environmental assessment instead.

Authority: 16 U.S.C. 1801 et seq.

Dated: September 29, 2020.
Jennifer M. Wallace,
Acting Director, Office of Sustainable Fisheries, National Marine Fisheries Service.

[FR Doc. 2020-21877 Filed 10-2-20; 8:45 am]

BILLING CODE 3510-22-P